DEPARTMENT OF ENERGY

Federal Energy Regulatory Commission

Combined Notice of Filings #1

Take notice that the Commission received the following electric corporate filings:

Docket Numbers: EC18-55-000.

Applicants: EAM Nelson Holding, LLC, Entergy Nuclear Generation Company, Entergy Nuclear Indian Point 2, LLC, Entergy Nuclear Indian Point 3, LLC, Entergy Nuclear Palisades, LLC, Entergy Nuclear Power Marketing, LLC, Entergy Power, LLC, EWO Marketing, LLC, RS Cogen, LLC.

Description: Supplement to February 8, 2018 Joint application of EAM Nelson Holding, LLC, et al., for FPA Section 203 authorization.

Filed Date: 3/15/18.

Accession Number: 20180315-5157.

Comments Due: 5 p.m. ET 3/26/18.

Docket Numbers: EC18-71-000.

Applicants: NorthWestern Corporation, NJR Clean Energy Ventures II Corporation.

Description: Application of NorthWestern Corporation, et al. for FPA Section 203 Authorization.

Filed Date: 3/16/18.

Accession Number: 20180316-5134.

Comments Due: 5 p.m. ET 4/6/18.

Take notice that the Commission received the following electric rate filings:

Docket Numbers: ER18-1-003.

Applicants: California Independent System Operator Corporation.

Description: Compliance filing: 2018-03-16 Reliability Services Initiative Phase 1b and Phase 2 Compliance to be effective 3/16/2018.

Filed Date: 3/16/18.

Accession Number: 20180316-5077.

Comments Due: 5 p.m. ET 4/6/18.

Docket Numbers: ER10-2063-002.

Applicants: Otter Tail Power Company.

Description: Errata to December 28, 2017 Triennial MBR Report for Central Region of Otter Tail Power Company.

Filed Date: 3/15/18.

Accession Number: 20180315-5148.

Comments Due: 5 p.m. ET 4/5/18.

Docket Numbers: ER16-120-006.

Applicants: New York Independent System Operator, Inc.

Description: Compliance filing: Amendment of 1/16/18 RMR compliance filing to be effective 10/20/2015.

Filed Date: 3/15/18.

Accession Number: 20180315-5140.

Comments Due: 5 p.m. ET 4/5/18.

Docket Numbers: ER18-815-002.

Applicants: PJM Interconnection, L.L.C.

Description: Tariff Amendment: Second Errata Filing in Docket No. ER18-815 RE: Regulation Resource Credit to be effective 4/9/2018.

Filed Date: 3/16/18.

Accession Number: 20180316-5044.

Comments Due: 5 p.m. ET 4/6/18.

Docket Numbers: ER18-1117-000.

Applicants: Northern States Power Company, a Minnesota corporation, Northern States Power Company, a Wisconsin corporation.

Description: § 205(d) Rate Filing: 2018 Interchange Agreement Annual Filing to be effective 1/1/2018.

Filed Date: 3/15/18.

Accession Number: 20180315-5144.

Comments Due: 5 p.m. ET 4/5/18.

Docket Numbers: ER18-1128-000.

Applicants: Portland General Electric Company.

Description: § 205(d) Rate Filing: Amended NTTG Funding Agreement to be effective 5/15/2016.

Filed Date: 3/16/18.

Accession Number: 20180316-5039.

Comments Due: 5 p.m. ET 4/6/18.

Docket Numbers: ER18-1130-000.

Applicants: PJM Interconnection, L.L.C., Mid-Atlantic Interstate Transmission, LLC, American Transmission Systems, Incorporation.

Description: § 205(d) Rate Filing: MAIT and ATSI submit Seven ECSAs SA Nos. 4866, 4867, 4868, 4887, 4888, 4889, 4925 to be effective 5/16/2018.

Filed Date: 3/16/18.

Accession Number: 20180316-5041.

Comments Due: 5 p.m. ET 4/6/18.

Docket Numbers: ER18-1131-000.

Applicants: PJM Interconnection, L.L.C.

Description: § 205(d) Rate Filing: Revisions to OATT Sch 12-Appx A re: RTEP Projects Approved by Board in Feb. 2018 to be effective 6/14/2018.

Filed Date: 3/16/18.

Accession Number: 20180316-5043.

Comments Due: 5 p.m. ET 4/6/18.

Docket Numbers: ER18-1132-000.

Applicants: Public Service Company of Colorado.

Description: § 205(d) Rate Filing: PSC-BLDR-SHGDIA & Dist. Wheeling Agrmts-Multi-0.0.0 to be effective 3/17/2018.

Filed Date: 3/16/18.

Accession Number: 20180316-5045.

Comments Due: 5 p.m. ET 4/6/18.

Docket Numbers: ER18-1134-000.

Applicants: Flat Rock Windpower LLC.

Description: § 205(d) Rate Filing: Second Revised MBR Tariff to be effective 3/17/2018.

Filed Date: 3/16/18.

Accession Number: 20180316-5065.

Comments Due: 5 p.m. ET 4/6/18.

Docket Numbers: ER18-1136-000.

Applicants: Alabama Power Company.

Description: § 205(d) Rate Filing: RES America Developments (Durant Bend Solar) LGIA Filing to be effective 3/5/2018.

Filed Date: 3/16/18.

Accession Number: 20180316-5081.

Comments Due: 5 p.m. ET 4/6/18.

Docket Numbers: ER18-1137-000.

Applicants: Flat Rock Windpower II LLC.

Description: § 205(d) Rate Filing: Second Revised MBR Tariff to be effective 3/17/2018.

Filed Date: 3/16/18.

Accession Number: 20180316-5084.

Comments Due: 5 p.m. ET 4/6/18.

Take notice that the Commission received the following electric reliability filings:

Docket Numbers: RR18-4-000.

Applicants: North American Electric Reliability Corporation.

Description: Petition for Approval of Amended Compliance and Certification Committee Charter of North American Electric Reliability Corporation.

Filed Date: 3/15/18.

Accession Number: 20180315-5181.

Comments Due: 5 p.m. ET 4/5/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Nathaniel J. Davis, Sr.,
Deputy Secretary.

[FR Doc. 2018-05952 Filed 3-22-18; 8:45 am]

BILLING CODE 6717-01-P